ENVIRONMENTAL PROTECTION AGENCY

[FRL-9164-2]

North Carolina Waters Along the Entire Length of Brunswick and Pender Counties and the Saline Waters of the Cape Fear River in Brunswick and New Hanover Counties No Discharge Zone Determination

The Environmental Protection Agency (EPA), Region 4, concurs with the determination of the North Carolina Department of Environment and Natural Resources (DENR), Division of Water Quality (DWQ), that adequate and reasonably available pumpout facilities exist for the designation of Brunswick and Pender Counties Coastal Waters as a No Discharge Zone (NDZ). Specifically, these waters include all the tidal salt waters extending 3 nautical miles (nm) into the Atlantic Ocean along the entire length of Brunswick and Pender Counties, and the saline waters of the Cape Fear River in Brunswick and New Hanover Counties. The other saline waters of New Hanover County have already been designated as a NDZ.

The geographic description including latitudes and longitudes are as follows: Northern Border of Pender County with Onslow County (34°27′23.9″ N 77°32.4′.859″ W), southwest along the mainland coast, to include all named and unnamed creeks, the Atlantic Intracoastal Waterway, Cape Fear River (up to Toomers Creek 34°15′36.61″ N 77°58′56.03″ W), Brunswick River, and Northeast Cape Fear River (up to Ness Creek 34°17′7.10″ N 77°57′17.70″ W), to the intersection of the Western tip of Brunswick County and South Carolina, 3 nm into the Atlantic Ocean (33°48′32.903″ N 78°30′33.675″ W) to include all the U.S. Territorial Sea extending 3 nm from South Carolina to a point 3 nm into the Atlantic Ocean (34°24′30.972″ N 78°28′18.903″ W) to the Pender/Onslow County Line.

This petition was filed pursuant to the Clean Water Act, Section 312(f)(3), Public Law 92-500 as amended by Public Law 95-217 and Public Law 100-4. A NDZ is defined as a body of water in which the discharge of vessel sewage, both treated and untreated, is prohibited. Section 312(f)(3) states:

After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

According to DENR DWQ the following facilities are located in Brunswick, Pender, and New Hanover Counties for pumping out vessel holding tanks:

(1) St. James Plantation Marina, 910-253-0463, 8 a.m.-5 p.m. M-F, 7′ draft at mean low tide

(2) South Harbor Village Marina, 910-454-7486, 7 a.m.-7 p.m. Summers, varies off season, 10′-15′ draft at mean low tide

(3) Southport Marina Inc., 910-457-9900, Sunrise to Sunset, 6′ draft at mean low tide

(4) Bald Head Island Marina, 910-457-7380, 9 a.m.-5 p.m. M-F 9 a.m.-6 p.m. Saturday 8 a.m.-6 p.m. Sunday, 8′ draft at mean low tide

(5) Mona Black Marina, 910-458-0575, Flexible-open year round, 4′ draft at mean low tide

(6) Waterfront Village & Yacht Club, 910-458-7400, call ahead, 5.5′ draft at mean low tide

(7) Carolina Beach State Park, 910-458-7770, May-August 8 a.m.-5 p.m. March, April, September, October 8 a.m.-7 p.m., 8′ draft at mean low tide

(8) Joyner Marina, 910-458-5053, Winter and Weekdays 8 a.m.-5 p.m. Summer and Weekends 7 a.m.-7 p.m., 5.5′ draft at mean low tide

(9) Watermark Marina of Wilmington, 910-794-5259, 10 a.m.-6 p.m. Monday-Saturday, 7′ draft at mean low tide

(10) Wilmington Marine Center, 910-395-5055, 8 a.m.-5 p.m. Seasonal, 7′ draft at mean low tide

(11) Cape Fear Marina, 910-772-9277, 8 a.m.-5 p.m. Monday-Friday Weekends by appointment only, 8′ draft at mean low tide

(12) Wrightsville Beach Marina/Trans Dock, 910-256-6666, 8 a.m.-7:30 p.m. Monday-Friday, 13′-18′ draft at mean low tide

(13) Seapath Yacht Club, 910-256-3747, 7 a.m.-7 p.m., 10′-12′ draft at mean low tide

(14) Harbour Village Marina, 910-270-2994, 7 a.m.-4 p.m., 10′ draft at mean low tide

(15) Beach House Marina, 910-328-2628, 8 a.m.-6 p.m., 7.5′ draft at mean low tide

Marinas outside of the propose NDZ, but within 5 nm:

(1) Coquina Harbor Marina, 843-249-5376, 8 a.m.-6 p.m., 9′-13′ draft at mean low tide

(2) Cricket Cove Marina, 843-249-7169, 8 a.m.-Sunset, 9′ draft at mean low tide

(3) Anchor Marina, 843-249-7899, 8 a.m.-5 p.m., 5′ draft at mean low tide

(4) Doc Holidays Marina, 843-280-6354, 8 a.m.-6 or 8 p.m. depending on season, 8′ draft at mean low tide

The total vessel population for these three counties (2009 data) is 28,400. This number reflects active vessel registrations and was obtained from the North Carolina Wildlife Resources Commission (inactive registrations were not included in these figures). It is recognized that only a small percent of the vessels in the coastal waters of Brunswick and Pender Counties are equipped with a Marine Sanitation Device (MSD). To estimate the number of MSDs in use, percentages obtained from EPA Region 2 were applied and are as follows:

Boat Length < 16′ | 8.3% with MSDs.
Boat Length 16′-25′ | 10.6% with MSDs.
Boat Length 26′-40′ | 78.5% with MSDs.
Boat Length > 40′ | 82.6% with MSDs.

In applying these percentages an estimated 3,888 MSDs are in use by registered boats within the proposed NDZ.

According to the New Hanover County NDZ Application submitted to EPA, the number of transient boats serviced by marinas in New Hanover County was calculated to be approximately 180 per month. Assuming similar numbers of transient boats for Brunswick and Pender Counties, the total number of transient boats for Brunswick, Pender, and New Hanover Counties would be 540. Using the figures for both county and transient boats, the total number of MSDs in these waters is estimated to be 4,335. There are 15 marinas within this area, and this yields a ratio of about 289 boats per pumpout facility. This figure does not include the 4 marinas that are located within 5 nm of this proposed NDZ area.

All vessel pumpout facilities that are described either discharge into State approved and regulated septic tanks or State approved on site waste treatment plant, or the waste is collected into a large holding tank for transport to a sewage treatment plant. Thus all vessel sewage will be treated to meet existing standards for secondary treatment.

Comments regarding this proposed action should be addressed to Tony Able, Chief, Coastal Section, EPA Region 4, Water Protection Division, 61 Forsyth Street, Atlanta, Georgia 30303-3104. Comments regarding this proposed action will be accepted until 30 days from the date of this publication in the Federal Register.

Beverly H. Banister,
Acting Regional Administrator, Region 4.

Memorandum

SUBJECT: Adequate and Reasonably Available Pumpout Facility Determination for North Carolina Waters Along the Entire Length of Brunswick and Pender Counties and the Saline Waters of the Cape Fear River in Brunswick and New Hanover Counties No Discharge Zone Determination

FROM: James D. Giattina, Director, Water Protection Division

TO: A. Stanley Meiburg, Acting Regional Administrator

EPA Region 4 received a petition from North Carolina Department of Environment and Natural Resources (NCDENR), Division of Water Quality, requesting concurrence with its determination that there are adequate and reasonably available pumpout facilities for emptying marine sanitation device holding tanks for North Carolina Waters along the entire length of Brunswick and Pender Counties and the saline waters of the Cape Fear River in Brunswick and New Hanover Counties.

All three counties (Brunswick, Pender and New Hanover) passed resolutions to petition for the establishment of a No Discharge Zone for their respective jurisdictions. Three members of the North Carolina General Assembly have also written in support for the designation of NDZ. This designation must be made before a State or local government can enforce a No Discharge Zone in waters where there is or may be interstate commerce. The establishment and enforcement of this action is the responsibility of the State as indicated in Section 312 of the Clean Water Act.

I recommend that EPA concur with this request, and proceed with the Federal Register process for noticing EPA's final determination.

Section 312 of the Clean Water Act provides the authority for this action, which has been delegated to the Regional Administrator. Your approval and signature are requested.

If you need further information, please call me or Drew Kendall of my staff at 2-9394.

Attachments:

No Discharge Zone Federal Register Notice

Federal Register Publication Interim Cover Sheet

Federal Typesetting Request Form and Accounting Information

[FR Doc. 2010-14907 Filed 6-18-10; 8:45 am]

BILLING CODE 6560-50-P